DEPARTMENT OF LABOR

Office of the Secretary

Submission for OMB Review: Comment Request

May 27, 2005.

The Department of Labor (DOL) has submitted the following public information collection requests (ICRs) to the Office of Management and Budget (OMB) for review and approval in accordance with the Paperwork Reduction Act of 1995 (Pub. L. 104-13, 44 U.S.C. chapter 35). A copy of each ICR, with applicable supporting documentation, may be obtained by contacting Darrin King on 202-693-4129 (this is not a toll-free number) or e-mail: king.darrin@dol.gov.

Comments should be sent to Office of Information and Regulatory Affairs, Attn: OMB Desk Officer for the Employee Benefits Security Administration (EBSA), Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employee Benefits Security Administration.

Type of Review: Extension of currently approved collection.

Title: Procedure for Application for Exemption from the Prohibited Transaction Provisions of Section 408(a) of the Employee Retirement Income Security Act of 1974 (ERISA).

OMB Number: 1210-0060.

Frequency: On occasion.

Type of Response: Reporting and Third party disclosure.

Affected Public: Business or other for-profit; Not-for-profit institutions; and Individuals or households.

Number of Respondents: 84.

Number of Annual Responses: 143.

Estimated Time Per Response: Varies from 15 hours for an attorney to prepare and application to 2 minutes for a clerical person to notify interested parties.

Total Burden Hours: 0.

Total Annualized Capital/Startup Costs: $0.

Total Annual Costs (Operating/Maintaining Systems or Purchasing Services): $372,581.

Description: Section 408(a) of ERISA authorizes the Secretary of Labor to grant exemptions from the prohibited transaction sections of 406 and 407(a) of ERISA and directs the Secretary to establish a procedure with respect to such provisions. This regulation provides a procedure that requires applications for exemption to make certain disclosures to the Department of Labor and to participants and beneficiaries.

Agency: Employee Benefits Security Administration.

Type of Review: Extension of currently approved collection.

Title: Application for EFAST-1 Electronic Signature and Codes for EFAST Transmitters and Software Developers.

OMB Number: 1210-0117.

Frequency: On occasion.

Type of Response: Reporting.

Affected Public: Business or other for-profit; Not-for-profit institutions; and Individuals or households.

Number of Respondents: 5,200.

Number of Annual Responses: 5,200.

Estimated Time Per Response: 20 minutes.

Total Burden Hours: 1,716.

Total Annualized Capital/Startup Costs: $0.

Total Annual Costs (Operating/Maintaining Systems or Purchasing Services): $1,976.

Description: The information provided by the applicants on EFAST-1, combined with the codes supplied to the applicants by the program, allow EFAST to verify a filer, transmitter, or software developer's standing as a qualified participant in the EFAST electronic filing program for the Form 5500 and 5500-EZ. EFAST-1 information also establishes a means of contact between the EFAST program and filers, transmitters, and software developers for information exchange.

Agency: Employee Benefits Security Administration.

Type of Review: Extension of currently approved collection.

Title: Consent to Receive Employee Benefit Plan Disclosure Electronically.

OMB Number: 1210-0121.

Frequency: On occasion.

Type of Response: Recordkeeping and Third party disclosure.

Affected Public: Business or other for-profit; Not-for-profit institutions; and Individuals or households.

Number of Respondents: 41,000.

Number of Annual Responses: 41,000.

Estimated Time Per Response: Varies from 2 hours for an attorney to develop disclosure materials to 1 minute for clerical staff to photocopy materials.

Total Burden Hours: 683.

Total Annualized Capital/Startup Costs: $0.

Total Annual Costs (Operating/Maintaining Systems or Purchasing Services): $716,000.

Description: Regulations at 29 CFR 2520.104b-1 and 2520.107-1 govern the use of electronic technologies to satisfy information disclosure and recordkeeping requirements under title I of the Employee Retirement Income Security Act of 1974, as amended (ERISA). Generally, consent is required to be obtained prior to providing disclosures electronically to participants and beneficiaries at a location other than the workplace.

Ira L. Mills,
Departmental Clearance Officer.

[FR Doc. 05-11148 Filed 6-3-05; 8:45 am]

BILLING CODE 4510-29-P